DEPARTMENT OF THE INTERIOR

Fish and Wildlife Service

Issuance of Permit for Marine Mammals

AGENCY: Fish and Wildlife Service, Interior.

ACTION: Notice of Issuance of Permit for Marine Mammals.

SUMMARY: The following permit was issued.

ADDRESSES: Documents and other information submitted for this application are available for review by any party who submits a written request to the U.S. Fish and Wildlife Service, Division of Management Authority, 4401 North Fairfax Drive, Room 700, Arlington, Virginia 22203; fax (703) 358-2281.

FOR FURTHER INFORMATION CONTACT: Division of Management Authority, telephone (703) 358-2104.

SUPPLEMENTARY INFORMATION: On November 27, 2002, a notice was published in the Federal Register (67 FR 70962), that an application had been filed with the Fish and Wildlife Service by David M. McNeil for a permit (PRT-064723) to import one polar bear (Ursus maritimus) sport hunted from the Southern Beaufort Sea polar bear population, Canada, for personal use.

Notice is hereby given that on December 26, 2002, as authorized by the provisions of the Marine Mammal Protection Act of 1972, as amended (16 U.S.C. 1361 et seq.), and the Endangered Species Act of 1973, as amended (16 U.S.C. 1531, et seq.), the Fish and Wildlife Service issued the requested permit subject to certain conditions set forth therein.

Dated: January 10, 2003.
Michael S. Moore,
Senior Permit Biologist, Branch of Permits, Division of Management Authority.

[FR Doc. 03-3398 Filed 2-10-03; 8:45 am]

BILLING CODE 4310-55-P